DEPARTMENT OF ENERGY

Federal Energy Regulatory Commission

[Docket No. EG00-246-000, et al.]

Badger Generating Company, LLC, et al.; Electric Rate and Corporate Regulation Filings

August 24, 2000.

Take notice that the following filings have been made with the Commission:

1. Badger Generating Company, LLC

[Docket No. EG00-246-000]

Take notice that on August 21, 2000, Badger Generating Company, LLC (Badger), a limited liability company with its principal place of business at 7500 Old Georgetown Road, Bethesda, Maryland 20814, filed with the Federal Energy Regulatory Commission an application for determination of exempt wholesale generator status pursuant to Part 365 of the Commission's Regulations.

Badger proposes to construct, own or lease and operate a natural gas-fired, combined cycle power plant of approximately 1050 MW capacity on one of two alternative sites in southeastern Wisconsin. The proposed power plant is expected to commence commercial operation in 2003. All output from the plant will be sold by Badger exclusively at wholesale.

Comment date: September 14, 2000, in accordance with Standard Paragraph E at the end of this notice. The Commission will limit its consideration of comments to those that concern the adequacy or accuracy of the application.

2. Orion Power Holdings, Inc., Astoria Generating Company, L.P., Carr Street Generating Station, L.P., Erie Boulevard Hydropower, L.P., and Orion Power MidWest, L.P.

[Docket No. EC00-129-000]

Take notice that on August 21, 2000, Orion Power Holdings, Inc., Astoria Generating Company, L.P., Carr Street Generating Station, L.P., Erie Boulevard Hydropower, L.P., and Orion Power MidWest, L.P. (collectively Applicants), tendered for filing an application pursuant to Section 203 of the Federal Power Act (FPA) to authorize a transfer in control of the Applicants by offering shares of Orion Power's common stock to the public.

Comment date: September 11, 2000, in accordance with Standard Paragraph E at the end of this notice.

3. WFEC GENCO, L.L.C.

[Docket No. EG00-247-000]

Notice of Application For Commission Determination of Exempt Wholesale Generator Status

August 24, 2000.

Take notice that on August 21, 2000, WFEC GENCO, L.L.C. (Applicant), P.O. Box 656, 701-B N.E. 7th Street, Anadarko, Oklahoma, 73005, filed with the Federal Energy Regulatory Commission (Commission) an application for determination of exempt wholesale generator status pursuant to Part 365 of the Commission's Regulations.

Applicant, an Oklahoma limited liability company, intends to own and/or operate two eligible facilities in Oklahoma. The facilities will consist of two 45-MW combustion turbine generating units, as well as interconnecting transmission facilities necessary to effect sales of electric energy at wholesale.

Comment date: May 5, 2000, in accordance with Standard Paragraph E at the end of this notice. The Commission will limit its consideration of comments to those that concern the adequacy or accuracy of the application.

4. Mid-Atlantic Energy Development Company

[Docket No. ER00-3216-001]

Take notice that on August 21, 2000, Mid-Atlantic Energy Development Company (Mid-Atlantic), tendered for filing an amendment to its application in this proceeding that included a Statement of Policy and Code of Conduct with Respect to the Relationship between Mid-Atlantic and the FirstEnergy Operating Companies.

Comment date: September 11, 2000, in accordance with Standard Paragraph E at the end of this notice.

5. Duquesne Light Company

[Docket No. ER00-3447-000]

Take notice that on August 21, 2000, Duquesne Light Company (DLC), tendered for filing a Service Agreement dated August 18, 2000 with H.Q. Energy Services (U.S.) Inc., under DLC's Open Access Transmission Tariff (Tariff). The Service Agreement adds H.Q. Energy Services (U.S.) Inc. as a customer under the Tariff.

DLC requests an effective date of August 18, 2000, for the Service Agreement.

Comment date: September 11, 2000, in accordance with Standard Paragraph E at the end of this notice.

6. Duquesne Light Company

[Docket No. ER00-3448-000]

Take notice that on August 21, 2000, Duquesne Light Company (DLC), tendered for filing a Service Agreement dated August 18, 2000 with H.Q. Energy Services (U.S.) Inc. under DLC's Open Access Transmission Tariff (Tariff). The Service Agreement adds H.Q. Energy Services (U.S.) Inc. as a customer under the Tariff.

DLC requests an effective date of August 18, 2000, for the Service Agreement.

Comment date: September 11, 2000, in accordance with Standard Paragraph E at the end of this notice.

7. Southern Indiana Gas and Electric Company

[Docket No. ER00-3449-000]

Take notice that on August 21, 2000, Southern Indiana Gas and Electric Company (SIGECO), tendered for filing Service Agreements for Firm and Non-Firm Transmission Service under Part II of its Transmission Services Tariff with Public Service Company of Colorado and The Energy Authority, Inc., and a Service Agreement for Firm Point-to-Point Transmission with Cinergy Services, Inc.

Copies of the filing were served upon each of the parties to the Service Agreement.

Comment date: September 11, 2000, in accordance with Standard Paragraph E at the end of this notice.

8. Virginia Electric and Power Company

[Docket No. ER00-3450-000]

Take notice that on August 21, 2000, Virginia Electric and Power Company (Virginia Power or the Company), tendered for filing the following Service Agreement for Firm Point-to-Point Transmission Service by Virginia Electric and Power Company to DTE Energy Marketing, Inc. designated as Service Agreement No. 294 under the Company's Retail Access Pilot Program, pursuant to Attachment L of the Company's Open Access Transmission Tariff, FERC Electric Tariff, Second Revised Volume No. 5, to Eligible Purchasers effective June 7, 2000.

Virginia Power requests an effective date of August 21, 2000, the date of filing of the Service Agreements.

Copies of the filing were served upon DTE Energy Marketing, Inc., the Virginia State Corporation Commission, and the North Carolina Utilities Commission.

Comment date: September 11, 2000, in accordance with Standard Paragraph E at the end of this notice.

9. Virginia Electric and Power Company

[Docket No. ER00-3451-000]

Take notice that on August 21, 2000, Virginia Electric and Power Company (Virginia Power or the Company), tendered for filing a Service Agreement for Firm Point-to-Point Transmission Service by Virginia Electric and Power Company to Allegheny Energy Supply Company, LLC designated as Service Agreement No. 293 under the Company's Retail Access Pilot Program, pursuant to Attachment L of the Company's Open Access Transmission Tariff, FERC Electric Tariff, Second Revised Volume No. 5, to Eligible Purchasers effective June 7, 2000.

Virginia Power requests an effective date of August 21, 2000, the date of filing of the Service Agreements.

Copies of the filing were served upon Allegheny Energy Supply Company, LLC, the Virginia State Corporation Commission, and the North Carolina Utilities Commission.

Comment date: September 11, 2000, in accordance with Standard Paragraph E at the end of this notice.

10. Commonwealth Edison Company

[Docket No. ER00-3452-000]

Take notice that on August 21, 2000, Commonwealth Edison Company (ComEd), tendered for filing 15 Short-Term Firm Transmission Service Agreements with Central Illinois Light Company (CIL), Commonwealth Edison Company, in its Wholesale Merchant Function (WMD), DTE Energy Trading, Inc. (DTE), Enron Power Marketing, Inc. (EPMI), Entergy Power Marketing Corp. (EPMC), Merchant Energy Group of the Americas, Inc. (MEGA), MIECO Inc. (MIECO), Morgan Stanley Capital Group, Inc. (MSCGI), NewEnergy, Inc. (NEI), Northern States Power Company (NSP), Skygen Energy Marketing, LLC (Skygen), Wisconsin Electric Power Company (WEP), Wabash Valley Power Association, Inc. (WVPA), Rainbow Energy Marketing Corporation (REMC) and Virginia Electric and Power Company (VEP) under the terms of ComEd's Open Access Transmission Tariff (OATT). These Agreements have been amended to provide that Transmission Customers must confirm accepted requests for service within the reservation timing requirements established in the Commission's Order No. 638. These Agreements amend and supersede agreements already on file with the Commission.

ComEd requests an effective date of May 30, 2000 for the Agreements, and accordingly, seeks waiver of the Commission's notice requirements.

Comment date: September 11, 2000, in accordance with Standard Paragraph E at the end of this notice.

11. Northeast Utilities Service Company

[Docket No. ER00-3453-000]

Take notice that on August 21, 2000, Northeast Utilities Service Company (NUSCO), on behalf of its affiliates, The Connecticut Light and Power Company, Western Massachusetts Electric Company, Holyoke Water Company, Holyoke Power and Electric Company, and Public Service Company of New Hampshire, submitted pursuant to section 35.15, 18 CFR 35.15 of the Commission's Regulations, a notice of termination of the Amended and Restated Power Sales Agreement (including Schedule A and Schedule B) between NUSCO and Citizens Power Sales LLC (formerly Citizens Lehman Power Sales), under the NU System Companies' Sale for Resale Tariff No. 6. NUSCO requests the termination of the rate schedules be made effective the later of November 1, 2000 or such date that certain condition precedents to the termination of these rate schedules have occurred.

NUSCO states that a copy of this filing has been mailed to Citizens Power Sales LLC and the Connecticut Department of Public Utility Control.

Comment date: September 11, 2000, in accordance with Standard Paragraph E at the end of this notice.

12. Duke Power, a division of Duke Energy Corporation

[Docket No. ER00-3454-000]

Take notice that on August 21, 2000, Duke Power, a division of Duke Energy Corporation (Duke Power), tendered for filing FERC Electric Rate Schedule No. 5—Wholesale Market-Based Rate Tariff Providing For Sales Of Capacity, Energy, Or Ancillary Services And Resale Of Transmission Rights.

Comment date: September 11, 2000, in accordance with Standard Paragraph E at the end of this notice.

13. Potomac Electric Power Company

[Docket No. ER00-3455-000]

Take notice that on August 21, 2000, Potomac Electric Power Company (Pepco), tendered for filing a service agreement pursuant to Pepco FERC Electric Tariff, Original Volume No. 5, entered into between Pepco and Koch Energy Trading, Inc.

An effective date of May 1, 2000, for this service agreement, with waiver of notice, is requested.

Comment date: September 11, 2000, in accordance with Standard Paragraph E at the end of this notice.

14. Oklahoma Gas and Electric Company

[Docket No. ER00-3456-000]

Take notice that on August 21, 2000, Oklahoma Gas and Electric Company (OG&E), tendered for filing, an Interconnection Agreement with ONEOK Power Marketing Company (ONEOK). The Interconnection Agreement provides for interconnection of the ONEOK facility to the OG&E transmission system at the rates, terms, charges, and conditions set forth therein.

OG&E is requesting that the Interconnection Agreement becomes effective as of August 14, 2000 and is also requesting waiver of the Commission's Notice requirements.

Copies of this filing have been served upon the Oklahoma Corporation Commission, the Arkansas Public Service Commission and on ONEOK .

Comment date: September 11, 2000, in accordance with Standard Paragraph E at the end of this notice.

15. Badger Generating Company, LLC

[Docket No. ER00-3457-000]

Take notice that on August 21, 2000, Badger Generating Company, LLC (Badger), tendered for filing pursuant to section 205 of the Federal Power Act, and Part 35 of the Commission's Regulations, a Petition for authorization to make sales of capacity, energy, and certain Ancillary Services at market-based rates; to reassign transmission capacity; and to resell firm transmission rights (FTRs). Badger proposes to construct a natural gas-fired, combined cycle power plant of approximately 1050 MW capacity on one of two alternative sites in southeastern Wisconsin.

Comment date: September 11, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Linwood A. Watson, Jr.,
Acting Secretary.

[FR Doc. 00-22412 Filed 8-31-00; 8:45 am]

BILLING CODE 6717-01-P